FEDERAL MARITIME COMMISSION

Sunshine Act Meetings

TIME AND DATE: November 16, 2021; 10:00 a.m.

PLACE: This meeting will be held at the Federal Maritime Commission and also streamed live from www.fmc.gov.

800 N Capitol Street NW, 1st Floor Hearing Room, Washington, DC.

Requests for attendance in-person should be sent to Secretary@fmc.gov, and the subject line should include “November 16, 2021, Meeting”. Interested members of the public have until 5:00 p.m. (Eastern) Friday, November 12, 2021, to register to attend in-person.

Attendees will be sent a form to complete and show to FMC staff to attest to their vaccination status. Attendees can also show a negative test that was administered up to 3 days prior to the November 16, 2021. All attendees will always maintain masking while in the building.

STATUS: Part of the meeting will be open to the public and held in-person with a limited capacity for public attendants, and also available to view streamed live, accessible from www.fmc.gov. The rest of the meeting will be closed to the public.

MATTERS TO BE CONSIDERED:

Portions Open to the Public

1. Staff Briefing on Ocean Carrier Revenue, Service Contract and Spot Pricing

2. Staff Briefing on Ocean Carrier Capacity Analysis and Blank Sailing Trends

Portions Closed to the Public

1. Staff Briefing on Ocean Carrier Revenue, Service Contract and Spot Pricing

2. Staff Briefing on Ocean Carrier Capacity Analysis and Blank Sailing Trends

CONTACT PERSON FOR MORE INFORMATION: Rachel Dickon, Secretary, (202) 523-5725.

Rachel Dickon,
Secretary.

[FR Doc. 2021-24855 Filed 11-9-21; 4:15 pm]

BILLING CODE 6730-02-P